DEPARTMENT OF THE TREASURY

Submission for OMB Review; Comment Request

March 28, 2012.

The Department of the Treasury will submit the following information collection request to the Office of Management and Budget (OMB) for review and clearance in accordance with the Paperwork Reduction Act of 1995, Public Law 104-13, on or after the date of publication of this notice.

DATES: Comments should be received on or before April 30, 2012 to be assured of consideration.

ADDRESSES: Send comments regarding the burden estimate, or any other aspect of the information collection, including suggestion for reducing the burden, to the (1) Office of Information and Regulatory Affairs, Office of Management and Budget, Attention: Desk Officer for Treasury, New Executive Office Building, Room 10235, Washington, DC 20503, or email at OIRA_Submission@OMB.EOP.GOV and to the (2) Treasury PRA Clearance Officer, 1750 Pennsylvania Ave. NW., Suite 11020, Washington, DC 20220, or on-line at www.PRAComment.gov.

FOR FURTHER INFORMATION CONTACT: Copies of the submission(s) may be obtained by calling (202) 927-5331, email at PRA@treasury.gov, or the entire information collection request maybe found at www.reginfo.gov.

Alcohol and Tobacco Tax and Trade Bureau (TTB)

OMB Number: 1513-0020.

Type of Review: Revision of a currently approved collection.

Title: Application for and Certification/Exemption of Label/Bottle Approval.

Form: TTB F 5100.31.

Abstract: The Federal Alcohol Administration Act requires the labeling of alcohol beverages and designates the Treasury Department to oversee compliance with regulations. This form is completed by the regulated industry members and submitted to TTB as an application to label their products. TTB oversees label applications to prevent consumer deception and to deter falsification of unfair advertising practices on alcohol beverages.

Affected Public: Private Sector: Businesses or other for-profits.

Estimated Total Burden Hours: 67,566.

Dawn D. Wolfgang,
Treasury PRA Clearance Officer.

[FR Doc. 2012-7792 Filed 3-29-12; 8:45 am]

BILLING CODE 4810-31-P